DEPARTMENT OF AGRICULTURE

Submission for OMB Review; Comment Request

January 24, 2022.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by February 28, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Application for Plant Variety Protection Certificate and Objective Description of Variety.

OMB Control Number: 0581-0055.

Summary of Collection: The Plant Variety Protection Act (PVPA) (December 24, 1970; 84 Stat. 1542, 7 U.S.C. 2321 et seq.) was established to encourage the development of novel varieties of sexually-reproduced plants and make them available to the public, providing intellectual property rights (IPR) protection to those who breed, develop, or discover such novel varieties, and thereby promote progress in agriculture in the public interest. The PVPA is a voluntary user funded program that grants intellectual property ownership rights to breeders of new and novel seed-and tuber-reproduced plant varieties. To obtain these rights the applicant must provide information that shows the variety is eligible for protection and that it is indeed new, distinct, uniform, and stable, as the law requires. Applicants are provided with applications to identify the information that is required to issue a certificate of protection.

Need and Use of the Information: Applicants must complete the ST-470, “Application for Plant Variety Protection Certificate,” and the ST-470 series of forms, “Objective Description of Variety” along with other forms. The Agricultural Marketing Service will use the information from the applicant to be evaluated by examiners to determine if the variety is eligible for protection under the PVPA. If this information were not collected there will be no basis for issuing certificate of protection, and no way for applicants to request protection.

Description of Respondents: Private Sector.

Number of Respondents: 95.

Frequency of Responses: Reporting: On occasion.

Total Burden Hours: 2,046.

Agricultural Marketing Service

Title: Local Food Purchase Assistance Cooperative Agreement Program (LFPA).

OMB Control Number: 0581-0330.

Summary of Collection: The Agricultural Marketing Act of 1946 (7 U.S.C. 1621 et seq.), as amended, directs and authorizes USDA to administer Federal cooperative agreements programs. AMS cooperative agreement programs are administered according to OMB Guidance for Cooperative Agreements, which is based on OMB's regulations under the Uniform Administrative Requirements, Cost Principles, and Audit Requirements for Federal Awards (2 CFR part 200) (85 FR 49506; December 13, 2020). Information collection requirements in this emergency request are needed for AMS to administer a new noncompetitive cooperative agreement program, in accordance with Section 1001(b)(4) of the American Rescue Plan Act (Pub. L. 117-2) (Act). USDA will collect information for this new program to award cooperative agreements and provide other assistance to maintain and improve food and agriculture supply chain resiliency.

Need and Use of the Information: Since the LFPA is a voluntary program, respondents request or apply for this specific competitive cooperative agreement, and in doing so, they provide information. The information collected is used only by authorized representatives of USDA, AMS, Commodity Procurement Program to certify that cooperative agreement participants are complying with applicable program regulations, and the data collected is the minimum information necessary to effectively carry out program requirements.

Information collection requirements in this request are essential to carry out the intent of Act, to provide respondents the type of service they request and to administer the program.

Description of Respondents: State, Local, and Tribal Governments.

Number of Respondents: 75.

Frequency of Responses: Reporting: Annually.

Total Burden Hours: 4,732.

Levi S. Harrell,
Departmental Information Collection Clearance Officer.

[FR Doc. 2022-01606 Filed 1-26-22; 8:45 am]

BILLING CODE 3410-02-P